DEPARTMENT OF HOMELAND SECURITY

Transportation Security Administration

[Docket No. TSA-2014-001]

Intent To Request Revision From OMB of One Current Public Collection of Information: TSA PreCheck® Application Program

AGENCY: Transportation Security Administration, Department of Homeland Security (DHS).

ACTION: 60-Day notice.

SUMMARY: The Transportation Security Administration (TSA) invites public comment on one currently approved Information Collection Request (ICR), Office of Management and Budget (OMB) control number 1652-0059, abstracted below that we will submit to OMB for a revision in compliance with the Paperwork Reduction Act (PRA). The ICR describes the nature of the information collection and its expected burden. The collection involves the voluntary submission of biographic and biometric information that TSA uses to verify identity and conduct a security threat assessment (STA) for the TSA PreCheck® Application Program.

DATES: Send your comments by March 16, 2026.

ADDRESSES: Comments may be emailed to TSAPRA@tsa.dhs.gov or delivered to the TSA PRA Officer, Information Technology, TSA-11, Transportation Security Administration, 6595 Springfield Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Pursuant to the statutory authorities explained below, TSA has implemented a voluntary enrollment program for individuals to apply for the TSA PreCheck Application Program. Section 109(a)(3) of the Aviation and Transportation Security Act, Public Law 107-71 (115 Stat. 597, 613, Nov. 19, 2001, codified at 49 U.S.C. 114 note) provides TSA with the authority to “establish requirements to implement trusted programs and use available technologies to expedite security screening of passengers who participate in such programs, thereby allowing security screening personnel to focus on those passengers who should be subject to more extensive screening.” In addition, TSA has express, statutory authority to establish and collect a fee for any registered traveler program by publication of a notice in the Federal Register, as outlined in the Department of Homeland Security Appropriations Act, 2006, Public Law 109-90 (119 Stat. 2064, 2088-89, Oct. 18, 2005).

Under the TSA PreCheck Application Program, individuals may submit biographic and biometric ¹ information directly to TSA. Interested applicants must provide certain minimum required data elements, including, but not limited to, name, date of birth, sex, address, contact information, country of birth, images of identity documents, proof of citizenship or immigration status, and biometrics via a secure interface.

¹ Unless otherwise specified, or the purposes of this document, “biometrics” refers to fingerprints and/or facial imagery.

TSA uses this information to verify identity at enrollment, conduct an STA, make a final eligibility determination for the TSA PreCheck Application Program (including a review of criminal, immigration, intelligence, and regulatory violation databases), and verify the identities of TSA PreCheck-enrolled and approved individuals when they are traveling. For example, as part of this process, TSA sends the applicants' fingerprints and associated information to the Federal Bureau of Investigation (FBI) for the purpose of comparing their fingerprints to other fingerprints in the FBI's Next Generation Identification (NGI) system or its successor systems including civil, criminal, and latent fingerprint repositories. The FBI may retain applicants' fingerprints and associated information in NGI after the completion of their application and, while retained, their fingerprints may continue to be compared against other fingerprints submitted to or retained by NGI as part of the FBI's Rap Back program.² In retaining applicants' fingerprints, the FBI conducts recurrent vetting of applicants' criminal history until the expiration date of the applicant's STA. TSA also transmits applicants' biometrics for enrollment into the Department of Homeland Security Automated Biometrics Identification System (IDENT) ³ and its successor system, the Homeland Advanced Recognition Technology System (HART),⁴ for recurrent vetting of applicants' criminal history, lawful presence, and ties to terrorism and for future support of TSA's biometric-based identification at airport checkpoints.

² The FBI's Rap Back service allows authorized agencies to receive on-going status notifications of any criminal history reported to the FBI after the initial processing and retention of criminal or civil transactions using fingerprint identification.

³ See U.S. Department of Homeland Security, Office of Biometric Identity Management (OBIM), Privacy Impact Assessment for Automated Biometric Identification System (IDENT), DHS/OBIM//PIA-001 (2012), available at DHS/OBIM/PIA-001 Automated Biometric Identification System | Homeland Security.

⁴ See U.S. Department of Homeland Security, Office of Biometric Identity Management (OBIM), Privacy Impact Assessment for Homeland Advanced Recognition Technology System, DHS/OBIM//PIA-004 (2024), available at DHS/OBIM/PIA-004 Homeland Advanced Recognition Technology System (HART) Increment 1 | Homeland Security.

TSA uses the STA results to decide if an individual poses a low risk to transportation or national security. TSA issues approved applicants a known traveler number (KTN) that they may use when making travel reservations. Airline passengers who submit a KTN when making airline reservations are eligible for expedited screening on flights originating from U.S. airports and select international locations including Nassau, Bahamas.⁵ TSA uses the traveler's KTN and other information during passenger prescreening to verify that the individual traveling matches the information on TSA's list of known travelers and to confirm TSA PreCheck expedited screening eligibility.

⁵ Passengers who are eligible for expedited screening typically will receive less stringent physical screening; e.g., removal of shoes, light outerwear, and a belt may not be required; laptop may remain in its case; and the “3-1-1” compliant liquids/gels bag may stay in their carry-on.

When the STA is complete, TSA makes a final determination on eligibility for the TSA PreCheck Application Program and notifies applicants of its decision. Most applicants generally should expect to receive notification from TSA within 3 to 5 days and up to 60 days of the submission of their completed applications. If initially deemed ineligible by TSA, applicants will have an opportunity to correct cases of misidentification or inaccurate criminal records. Applicants must submit a correction of any information they believe to be inaccurate within 60 days of issuance of TSA's letter. If a corrected record is not received by TSA within the specified amount of time, the agency may make a final determination to deny eligibility. Individuals who TSA determines are ineligible for the TSA PreCheck Application Program will undergo standard or other screening at airport security checkpoints.

In 2025, TSA established a partnership with U.S. Customs and Border Protection (CBP) to reduce the risk profile of passengers who are members of CBP's Global Entry (GE) Trusted Traveler Program, expedite GE enrollment processing for existing TSA PreCheck members, and enhance the customer experience. This initiative is only available to members of TSA PreCheck who opt-in to CBP's expedited vetting.

For purposes of the partnership with CBP, once the fingerprints associated with each TSA PreCheck applicant opting-in to GE have been thoroughly vetted through the FBI NGI database during TSA PreCheck Application Program enrollment, TSA will authorize DHS IDENT/HART to share specified biographic and biometric data issued to TSA PreCheck applicants during the enrollment process (fingerprints, the Fingerprint Identification Number, and the Encounter Identification Number), with CBP for reuse during the CBP GE vetting process.

Collection Revisions: Enhancing Customer Experience for Vetted Populations

TSA is revising the collection to include the MyTSA PreCheck Identity (ID), which facilitates delivery of TSA PreCheck benefits to recipients; the development of the Customer Service Portal to enhance customer experience and data management; and the revision of post enrollment surveys to reduce customer burden to better serve the needs of the public.

DHS Trusted Traveler populations are vetted, low-risk travelers who have voluntarily opted-in to receive expedited screening after undergoing a background check or STA. The MyTSA PreCheck ID is a mobile ID that provides eligible DHS Trusted Traveler members with TSA PreCheck benefits, including a way to verify their identity at security checkpoints and receive expedited screening; the ability to opt-in to TSA PreCheck Touchless ID; ⁶ and potential future benefits, such as the ability to use the MyTSA PreCheck ID as a visitor pass to allow access to the sterile area. To participate in MyTSA PreCheck ID, eligible DHS Trusted Travelers voluntarily submit certain biographic and biometric information to confirm their TSA PreCheck status, verify their identity and facilitate provisioning of the ID to their mobile device.

⁶ TSA is using facial identification to verify a passenger's identity at its security checkpoints using the CBP Traveler Verification Service, which creates a secure biometric template of a passenger's live facial image taken at the checkpoint and matches it against a gallery of templates of pre-staged photos that the passenger previously provided to the government (e.g., U.S. Passport or Visa). Participation is optional. Passengers who have consented to participate may choose to opt-out at any time and instead go through the standard identity verification process by a Transportation Security Officer.

The TSA Customer Service Portal is a user-friendly, centralized platform for individuals in various TSA vetted population programs to securely view and manage their profile information from these programs, including TSA PreCheck. Members can view their current program status, upload updated documents, and receive status updates and correspondence from TSA. Active TSA program members must have a login.gov account (which requires an email and password) to access and use the Customer Service Portal. TSA PreCheck Application Program members using the Customer Service Portal can view their TSA PreCheck membership information to include the KTN, the specified enrollment provider, and the renewal date as well as opt-in or out of specific program incentives such as TSA PreCheck Touchless ID. The ability to view and manage membership information will greatly enhance the customer experience while providing TSA with up-to-date member data and streamlined processes to manage the data. In the future, other TSA PreCheck benefit holders, to include CBP's Global Entry, will have the ability to view their applicable TSA PreCheck information and opt-in or out of TSA PreCheck Touchless ID.

The TSA PreCheck Application Program enhances aviation security by permitting TSA to better focus its limited security resources on passengers who are unknown to TSA and whose level of risk is undetermined, while also facilitating and improving the commercial aviation travel experience for the public. Travelers who choose not to enroll in this initiative are not subject to any limitations on their travel because of their choice; they will be processed through normal TSA screening before entering the sterile areas of airports. TSA also retains the authority to perform standard or other screening on a random basis on TSA PreCheck Application Program participants and any other travelers authorized to receive expedited physical screening.

TSA estimates that there will be an average of 8,384,125 respondents over a 3-year period, for a total of 25,152,376 respondents. This estimate of respondents is based on current and projected enrollments with TSA's PreCheck Application Program. TSA estimates that there will be an average annual hour burden of 4,684,077 hours over a 3-year projection, for a total of 14,052,232 hours. This burden includes the new enrollment process for the mobile MyTSA PreCheck ID. There is no burden associated with the TSA Customer Service Portal.

The applicant fee per respondent for those who apply for the TSA PreCheck Application Program directly with TSA will average $80 for initial enrollments, $70 for online renewals, and $75 for in-person renewals, which covers TSA's program costs, TSA's enrollment vendor's costs, and the FBI fee for the criminal history records check.

Dated: January 13, 2026.
Christina A. Walsh,
Paperwork Reduction Act Officer, Information Technology, Transportation Security Administration.

[FR Doc. 2026-00724 Filed 1-14-26; 8:45 am]

BILLING CODE 9110-05-P